DEPARTMENT OF JUSTICE

Drug Enforcement Administration

[Docket No. DEA-657]

Bulk Manufacturer of Controlled Substances Application: Nalas Engineering Services, Inc.

ACTION: Notice of application.

DATES: Registered bulk manufacturers of the affected basic class(es), and applicants therefore, may file written comments on or objections to the issuance of the proposed registration on or before August 4, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on May 22, 2020, Nalas Engineering Services, Inc., 85 Westbrook Road, Centerbrook, Connecticut 06409, applied to be registered as a bulk manufacturer of the following basic class(es) of controlled substance:

Controlled substance | Drug code | Schedule
Thebaine | 9333 | II

The company plans to manufacture derivatives of the above controlled substance for distribution to its customers.

William T. McDermott,
Assistant Administrator.

[FR Doc. 2020-12175 Filed 6-4-20; 8:45 am]

BILLING CODE 4410-09-P